DEPARTMENT OF LABOR

Employment and Training Administration

[TA-W-38,024]

Alabama Structural Beams, a Division of Gulf States Steel, Gadsden, AL; Notice of Negative Determination Regarding Application for Reconsideration

By application dated January 15, 2001, the attorney for United Steelworkers of America, Local 2176, requested administrative reconsideration of the Department's negative determination regarding eligibility to apply for Trade Adjustment Assistance (TAA), applicable to workers and former workers of the subject firm. The denial notice was signed on December 5, 2000, and was published in the Federal Register on December 21, 2000 (65 FR 80456).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Alabama Structural Beams, a Division of Gulf States Steel, Gadsden, Alabama, was denied because the “contributed importantly” group eligibility requirement of Section 222(3) of the Trade Act of 1974, as amended, was not met. The “contributed importantly” test is generally demonstrated through a survey of customers of the workers' firm. None of the customers reported purchasing imported I-beams.

The petitioner states that the workers at the Structural Beams plant should be eligible to apply for the program benefits because the Structural Beams plant and the parent company, Gulf States Steel, were on in the same. They shared the same Board of Directors, payroll, on-site medical facilities, workers compensation, and health insurance. The petitioner adds that Alabama Structural Beams was part of Gulf States Steel in every sense except that the pay scale and employee union contract was different. When Gulf States Steel closed, so too did the subject firm plant. The petitioner states that the Structural Beam plan relied on the parent company for the raw material to produce the I-beams. The I-beams were sold mainly to manufacturers of mobile homes.

The source of the raw material to produce the I-beams is irrelevant in this case. Workers of the Alabama Structural Beams plant could be certified only if they supplied the I-beams to Gulf States Steel (whose workers were certified eligible to apply for TAA).

Conclusion

After review of the application and investigative findings, I conclude that there has been no error or misinterpretation of the law or of the facts which would justify reconsideration of the Department of Labor's prior decision. Accordingly, the application is denied.

Signed at Washington, DC, this 30th day of April 2001.
Linda A. Poole,
Certifying Officer, Division of Trade Adjustment Assistance.

[FR Doc. 01-12564 Filed 5-17-01; 8:45 am]

BILLING CODE 4510-30-M